DEPARTMENT OF COMMERCE

Submission For OMB Review; Comment Request

DOC has submitted to the Office of Management and Budget (OMB) for clearance the following proposal for collection of information under the provisions of the Paperwork Reduction Act (44 U.S.C. chapter 35).

Agency: U.S. Census Bureau.

Title: 2002 Economic Census Covering The Wholesale Trade Sector.

Form Number(s): Too numerous to list here.

Agency Approval Number: none.

Type of Request: New collection.

Burden: 720,000 hours in FY 2003.

Number of Respondents: 480,000.

Avg Hours Per Response: 1.5 hours.

Needs and Uses: The U.S. Census Bureau requests Office of Management and Budget approval of the information collection forms it will use in conducting the 2002 Economic Census covering the Wholesale Trade Sector. The wholesale trade sector comprises establishments primarily engaged in the selling or arranging the purchase or sale of durable nonconsumer goods, selling goods for resale, and the sale of other goods from establishments that operate from a warehouse or office and do not normally advertise directly to the general public. The census will use a mail canvass, supplemented by data from Federal administrative records, to measure the economic activity of more than 480,000 wholesale establishments classified in the North American Industry Classification System (NAICS).

The economic census will produce basic statistics by kind of business on number of establishments, sales, payroll, employment, inventories, and operating expenses. It also will yield a variety of subject statistics, including sales by commodity line; e-commerce sales; sales by class of customer; employment by principal activity; measures of gross margin and gross profit; and other industry-specific measures, such as bulk storage capacity by type of facility for petroleum bulk stations and terminals. Basic statistics will be summarized for the United States, states, and metropolitan areas, and counties and places having 2,500 inhabitants or more. Tabulations of subject statistics also will present data for the United States and, in some cases, for states and metropolitan areas.

The economic census is the primary source of facts about the structure and functioning of the Nation's economy and features unique industry and geographic detail. Economic census statistics serve as part of the framework for the national accounts and provide essential information for government, business, and the general public. The Federal Government uses information from the economic census as an important part of the framework for the national income and product accounts, input-output tables, economic indexes, and other composite measures that serve as the factual basis for economic policy-making, planning, and program administration. Further, the census provides sampling frames and benchmarks for current surveys of business which track short-term economic trends, serve as economic indicators, and contribute critical source data for current estimates of gross domestic product. State and local governments rely on the economic census as a unique source of comprehensive economic statistics for small geographic areas for use in policy-making, planning, and program administration. Finally, industry, business, academe, and the general public use information from the economic census for evaluating markets, preparing business plans, making business decisions, developing economic models and forecasts, conducting economic research, and establishing benchmarks for their own sample surveys.

Affected Public: Businesses or other for-profit organizations; individuals or households; not-for-profit institutions; state, local, or tribal government.

Frequency: One time.

Respondent's Obligation: Mandatory.

Legal Authority: Title 13 USC, Sections 131 and 224.

OMB Desk Officer: Susan Schechter, (202) 395-5103.

Copies of the above information collection proposal can be obtained by calling or writing Madeleine Clayton, Departmental Paperwork Clearance Officer, (202) 482-3129, Department of Commerce, room 6086, 14th and Constitution Avenue, NW, Washington, DC 20230 (or via the Internet at mclayton@doc.gov).

Written comments and recommendations for the proposed information collection should be sent within 30 days of publication of this notice to Susan Schechter, OMB Desk Officer, room 10201, New Executive Office Building, Washington, DC 20503.

Dated: May 3, 2001.
Madeleine Clayton,
Departmental Paperwork Clearance Officer, Office of the Chief Information Officer.

[FR Doc. 01-11605 Filed 5-8-01; 8:45 am]

BILLING CODE 3510-07-P